DEPARTMENT OF AGRICULTURE

Submission for OMB Review; Comment Request

July 2, 2019.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by August 8, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Local Food Directories and Survey.

OMB Control Number: 0581-0169.

Summary of Collection: The primary legislative basis for conducting farmer's market research is the Agricultural Marketing Act of 1946 (7 U.S.C. 1621-1627). In addition, the Farmer-to-Consumer Direct Marketing Act of 1976 supports USDA's work to enhance the effectiveness of direct marketing, such as the development of modern farmers markets, the development of On-Farm Markets, Community Supported Agriculture (CSA) and Food Hubs. The Marketing Services Division (MSD), Agricultural Marketing Service (AMS) identifies marketing opportunities, provides analysis to help take advantage of those opportunities and develops and evaluates solutions including improving farmers markets and other direct-to-consumer marketing activities. Markets are maintained by State Departments of Agriculture, local public authorities, grower organizations and non-profit organizations.

Need and Use of the Information: The information will be collected using the form TM-6 “Farmers' Market Directory and Survey,” the On-Farm Market Questionnaire, CSA Questionnaire, and the Food Hub Questionnaire. Each survey/questionnaire collects the data necessary to populate the USDA National Farmers Market Directory, and the other three direct to customer directories. Combining the collections will reduce the number of times that it seeks to make contact with market managers. Participating market managers are invited to participate in an optional National Farmers Market Managers Survey evaluating the farmer's market sector. These markets represent a varied range of sizes, geographical locations, types, ownership, structure, and will provide a valid overview of farmers markets in the United States. Information such as the size of market's, operating times and days, retail and wholesale sales, management structure, and rules and regulations governing the markets are all important questions that need to be answered in the design of a new market. The information developed by the Farmer's Market Survey will support better designs, development techniques, and operating methods for modern farmers markets and outline improvements that can be applied to revitalize existing markets. The three direct marketing channel directories along with the National Farmer's Market Directory website will provide synergies, give customers a one stop shopping website for a wide variety of locally produced directly marketed farm products, and provide a free advertising venue for agricultural enterprise managers seeking to diversify their farming operation by marketing directly to customers.

Description of Respondents: Not-for-profit institutions.

Number of Respondents: 8,700.

Frequency of Responses: Reporting: On occasion.

Total Burden Hours: 2,069.

Kimble Brown,
Departmental Information Collection Clearance Officer.

[FR Doc. 2019-14492 Filed 7-8-19; 8:45 am]

BILLING CODE 3410-02-P